DEPARTMENT OF ENERGY

Federal Energy Regulatory Commission

Combined Notice of Filings #2

Take notice that the Commission received the following exempt wholesale generator filings:

Docket Numbers: EG11-117-000.

Applicants: Louisiana Generating LLC.

Description: Self-Certification of Exempt Wholesale Generator Status of Louisiana Generating LLC.

Filed Date: 08/16/2011.

Accession Number: 20110816-5045.

Comment Date: 5 p.m. Eastern Time on Tuesday, September 6, 2011.

Take notice that the Commission received the following electric rate filings:

Docket Numbers: ER10-2627-004.

Applicants: FirstLight Hydro Generating Company.

Description: FirstLight Hydro Generating Company submits tariff filing per: FL Hydro Supplement to the Record to be effective 8/16/2011.

Filed Date: 08/16/2011.

Accession Number: 20110816-5091.

Comment Date: 5 p.m. Eastern Time on Tuesday, September 6, 2011.

Docket Numbers: ER11-3650-001.

Applicants: Southwest Power Pool, Inc.

Description: Southwest Power Pool, Inc. submits tariff filing per 35.17(b): Amendment to 607R13 Westar Energy, Inc. NITSA and NOA to be effective 5/1/2011.

Filed Date: 08/16/2011.

Accession Number: 20110816-5028.

Comment Date: 5 p.m. Eastern Time on Tuesday, September 6, 2011.

Docket Numbers: ER11-4310-000.

Applicants: Michigan Electric Transmission Company, Midwest Independent Transmission System Operator, Inc.

Description: Michigan Electric Transmission Company, LLC submits tariff filing per 35.13(a)(2)(iii: G479b Errata Filing to be effective 8/1/2011.

Filed Date: 08/15/2011.

Accession Number: 20110815-5089.

Comment Date: 5 p.m. Eastern Time on Thursday, August 25, 2011.

Docket Numbers: ER11-4317-000.

Applicants: PPL Electric Utilities Corporation.

Description: Notice of Cancellation of PPL Electric Utilities Corporation.

Filed Date: 08/15/2011.

Accession Number: 20110815-5209.

Comment Date: 5 p.m. Eastern Time on Tuesday, September 6, 2011.

Take notice that the Commission received the following land acquisition reports:

Docket Numbers: LA11-2-000.

Applicants: Goshen Phase II LLC.

Description: Goshen Phase II LLC Quarterly Land Acquisition Report.

Filed Date: 08/16/2011.

Accession Number: 20110816-5057.

Comment Date: 5 p.m. Eastern Time on Tuesday, September 6, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 16, 2011.
Nathaniel J. Davis, Sr.,
Deputy Secretary.

[FR Doc. 2011-21687 Filed 8-24-11; 8:45 am]

BILLING CODE 6717-01-P